DEPARTMENT OF VETERANS AFFAIRS

Veterans' Rural Health Advisory Committee, Notice of Meeting

The Department of Veterans Affairs (VA) gives notice under Public Law 92-463 (Federal Advisory Committee Act) that the Veterans' Rural Health Advisory Committee will hold a meeting on March 29-30, 2012, at the Conference Center at the Community Health Development, Inc., 201 South Evans Street, Uvalde, Texas, from 8 a.m. to 4 p.m. each day. The meeting is open to the public.

The purpose of the Committee is to advise the Secretary of Veterans Affairs on health care issues affecting enrolled Veterans residing in rural areas. The Committee examines programs and policies that impact the provision of VA health care to enrolled Veterans residing in rural areas, and discusses ways to improve and enhance VA services for these Veterans.

In the morning of March 29, the Committee will hear from its Chairman; the Veterans Integrated Systems Network 17 Director; and the Chief Executive Officer of the Community Health Development, Inc. In the afternoon, the Committee will receive overviews of the San Antonio Healthcare Delivery System and the Texas Veterans Commission. The Committee will also receive briefings on improving access in rural health and hear from the Director of the Office of Rural Health (ORH).

In the morning of March 30, the Committee will hear opening remarks from its Chairman; receive briefings on the South Texas Veterans Health Care Telehealth Program, the Homeless Women Veterans Program, and the ORH National Outreach Tool Kit; and hear from the County Veterans Service Officer. In the afternoon, the Committee will discuss its annual report and fall meeting. Public comments will be received at 3:30 p.m.

Individuals who speak are invited to submit a 1-2 page summary of their comments for inclusion in the official meeting record. Members of the public may also submit written statements for the Committee's review to Ms. Judy Bowie, Designated Federal Officer, ORH (10P1R), Department of Veterans Affairs, 810 Vermont Avenue NW., Washington, DC 20420, or email at rural.health.inquiry@va.gov. Any member of the public seeking additional information should contact Ms. Bowie at (202) 461-1929.

Dated: March 1, 2012.
By Direction of the Secretary.
Vivian Drake,
Committee Management Officer.

[FR Doc. 2012-5408 Filed 3-5-12; 8:45 am]

BILLING CODE P